DEPARTMENT OF AGRICULTURE

Deschutes Provincial Interagency Executive Committee (PIEC), Advisory Committee Meeting

AGENCY: Forest Service.

ACTION: Notice of meeting.

SUMMARY: The Deschutes PIEC Advisory Committee will meet on August 16-17, 2000 at the Confederated tribes of Warm Springs Forestry and Fire Management Conference room at 4430 Upper Dry Creek Road in Warm Springs, Oregon. The first day will be a field trip starting at 10 am to visit vegetation management projects on Tribal lands. The second day will be a business meeting starting at 9 am at the Jefferson County Firehall on the corner of Adam and “J” Street in Madras, Oregon. Agenda items will include Rechartering, United Federal Policy on Water Quality Monitoring, Roadless Area EIS, Recreation Initiative, Update on the Lower Snake Dams, Hosmer EA, Info Sharing and a Public Forum from 3 pm till 3:30 pm. All Deschutes Province Advisory Committee Meetings are open to the public.

FOR FURTHER INFORMATION CONTACT: Mollie Chaudet, Province Liaison, USDA, Bend-Ft. Rock Ranger District, 1230 N.E. 3rd, Bend, OR 97701, Phone (541) 383-4769.

Dated: July 10, 2000.
Rebecca Heath,
Acting Deschutes National Forest Superior.

[FR Doc. 00-17907 Filed 7-13-00; 8:45 am]

BILLING CODE 3410-11-M